DEPARTMENT OF COMMERCE

International Trade Administration

[A-489-501]

Circular Welded Carbon Steel Standard Pipe and Tube Products From Turkey: Preliminary Results of Antidumping Duty Administrative Review and Preliminary Determination of No Shipments; 2020-2021

AGENCY: Enforcement and Compliance, International Trade Administration, Department of Commerce.

SUMMARY: The U.S. Department of Commerce (Commerce) is conducting an administrative review of the antidumping duty (AD) order on circular welded carbon steel standard pipe and tube products (CWP) from Turkey. The period of review (POR) is May 1, 2020, through April 30, 2021. Commerce preliminarily determines that the producers/exporters subject to this review made sales of subject merchandise at less than normal value. We invite interested parties to comment on these preliminary results.

DATES: Applicable June 6, 2022.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Background

On July 6, 2021, based on timely requests for a review, in accordance with 19 CFR 351.221(c)(1)(i), we initiated this administrative review,¹ covering 20 companies.² The sole mandatory respondent in this administrative review is Borusan Mannesmann Boru Sanayi ve Ticaret A.S. (Borusan Mannesmann) and Borusan Istikbal Ticaret T.A.S. (Istikbal) (collectively, Borusan).³ On January 11, 2022, we extended the deadline for the preliminary results by 120 days to May 31, 2022.⁴

¹ See Initiation of Antidumping and Countervailing Duty Administrative Reviews, 86 FR 35481 (July 6, 2021) (Initiation Notice). In the Initiation Notice, we inadvertently omitted the name of a company for which a review was requested, Kale Baglanti Teknolojileri San. ve Tic. A.S., and included the name of Borusan Mannesmann Pipe U.S. Inc. (BMP), Borusan Mannesmann Boru Sanayi ve Ticaret A.S.' affiliated U.S. reseller, which, itself, is not an exporter or producer of the subject merchandise. On May 19, 2022, Commerce published in the Federal Register a correction to the Initiation Notice, in which we identified these errors and announced a correction, by including the name of Kale Baglanti Teknolojileri San. ve Tic. A.S. and removing BMP from the list of companies covered by the initiation of an administrative review. See Circular Welded Carbon Steel Standard Pipe and Tube Products from Turkey: Correction to the Initiation Notice of the 2020-2021 Antidumping Duty Administrative Review, 87 FR 30453 (May 19, 2022).

² Id.

³ See Memorandum, “Administrative Review of the Antidumping Duty Order on Welded Carbon Steel Standard Pipe and Tube Products from Turkey: Respondent Selection,” dated August 11, 2021. We note that in the Initiation Notice, there is a spelling error for Istikbal's name. Specifically, Istikbal's name should read “Borusan Istikbal Ticaret T.A.S.,” instead of “Borusman Istikbal Ticaret T.A.S.,” which is the name listed in the Initiation Notice based on review requests from Nucor Tubular Products Inc. (Nucor) and Wheatland Tube Company (Wheatland). Accordingly, we are correcting this spelling error for purposes of these preliminary results.

⁴ See Memorandum, “2020-2021 Antidumping Duty Administrative Review of Circular Welded Carbon Steel Standard Pipe and Tube Products from Turkey: Extension of Deadline for Preliminary Results of Antidumping Duty Administrative Review,” dated January 11, 2022.

Scope of the Order ⁵

⁵ Antidumping Duty Order; Welded Carbon Steel Standard Pipe and Tube Products from Turkey, 51 FR 17784 (May 15, 1986) (Order).

The merchandise covered by the Order is circular welded carbon steel standard pipe and tube products. For a complete description of the scope of the Order, see the Preliminary Decision Memorandum.⁶

⁶ See Memorandum, “Decision Memorandum for Preliminary Results of Antidumping Duty Administrative Review: Circular Welded Carbon Steel Standard Pipe and Tube Products from Turkey; 2020-2021” dated concurrently with, and hereby adopted by, this notice (Preliminary Decision Memorandum).

Methodology

Commerce is conducting this review in accordance with section 751(a) of the Tariff Act of 1930, as amended (the Act). Export price and constructed export price are calculated in accordance with section 772 of the Act. Normal value is calculated in accordance with section 773 of the Act.

For a full description of the methodology underlying our conclusions, see the Preliminary Decision Memorandum.⁷ A list of the topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ Id.

Preliminary Determination of No Shipments

Between June 16 and August 5, 2021, 15 companies timely submitted letters to Commerce certifying that they had no sales, shipments, or entries of the subject merchandise to the United States during the POR.⁸

⁸ See Toscelik Profil ve Sac Endustrisi A.S.'s (Toscelik Profil) Letter, “Circular Welded Carbon Steel Pipe from Turkey; Toscelik No Shipments Letter,” dated June 18, 2021; Yucel Boru ve Profil Endustrisi A.Ş.'s Letter, “Circular Welded Carbon Steel Pipe from Turkey; Yucel No Shipments Letter,” dated June 18, 2021; Cinar Boru Profil Sanayi ve Ticaret Anonim Sirketi's Letter, “Circular Welded Carbon Steel Pipes and Tubes from Turkey (A-489-501),” dated June 16, 2021; Erbosan Erciyas Boru Sanayi ve Ticaret A.S.'s Letter, “No Shipment Certificate of Erbosan Erciyas Boru Sanayi ve Ticaret A.S. (“ERBOSAN”), dated July 1, 2021; and Borusan Mannesmann's Letter, “Circular Welded Carbon Steel Pipes and Tubes from Turkey, Case No. A-489-501: No Shipments Letter,” dated August 5, 2021. One of these 15 companies, Toscelik Spiral Boru Uretim A.S. (Toscelik Uretim), which is not subject to this review, voluntarily submitted a no shipment certification via Toscelik Profil's No Shipment Certification Letter. However, because this company is not subject to this review (i.e., no party requested a review of Toscelik Uretim), we have not evaluated its no shipment claim.

With respect to Istikbal, one of the companies which certified no shipments during the POR, we continue to find it to be part of the single entity, Borusan, and we find no record evidence that warrants altering this treatment.⁹ Therefore, because we find that Borusan had shipments during this POR, we have not made a preliminary determination of no shipments with respect to Istikbal.

⁹ See, e.g., Welded Carbon Steel Standard Pipe and Tube Products from Turkey: Final Results of Antidumping Duty Administrative Review and Final Determination of No Shipments; 2013-2014, 80 FR 76674, 76674 (December 10, 2015).

With respect to the remaining 13 companies that certified no shipments and are under review,¹⁰ U.S. Customs and Border Protection (CBP) did not have any information to contradict these claims of no shipments during the POR.¹¹ Therefore, we preliminarily determine that the companies listed in Appendix II did not have shipments of subject merchandise during the POR. Consistent with our practice,¹² Commerce finds that it is not appropriate to rescind the review with respect to these 13 companies but, rather, to complete the review and issue appropriate instructions to CBP based on the final results of this review.

¹⁰ As stated above, Toscelik Uretim is not under review and, therefore, we have not evaluated its no shipment claim.

¹¹ See Preliminary Decision Memorandum; see also Memorandum, “Welded Carbon Steel Standard Pipe and Tube Products from Turkey: Release of Customs and Border Protection Data,” dated July 16, 2021.

¹² See, e.g., Heavy Walled Rectangular Welded Carbon Steel Pipes and Tubes from the Republic of Turkey: Preliminary Results of Antidumping Duty Administrative Review and Preliminary Determination of No Shipment; 2017-2018, 84 FR 34863 (July 19, 2019), and accompanying Preliminary Decision Memorandum at 4; see also Non-Market Economy Antidumping Proceedings: Assessment of Antidumping Duties, 76 FR 65694-95 (October 24, 2011); the “Assessment Rates” section, below; and Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014).

Rates for Companies Not Individually Examined

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely on the basis of facts available.”

Five companies, Borusan Holding; Borusan Mannesmann Yatirim Holding; Noksel Celik Boru Sanayi A.S.; Kale Baglann Teknolojileri San. ve Tic. A.S.; and Kale Baglanti Teknolojileri San. ve Tic. A.S., remain subject to this administrative review because none of these five companies were selected as a mandatory respondent; ¹³ the subject of a withdrawal of request for review, requested to participate as a voluntary respondent, or submitted a claim of no shipments. As such, these five companies remain as unexamined respondents. In accordance with section 735(c)(5)(A) of the Act, Commerce is assigning the weighted-average dumping margin of the mandatory respondent Borusan, 13.79 percent, to the five non-selected companies in these preliminary results.

¹³ See Memorandum, “Administrative Review of the Antidumping Duty Order on Welded Carbon Steel Standard Pipe and Tube Products from Turkey: Respondent Selection,” dated August 11, 2021.

Preliminary Results of Review

We preliminarily determine that the following weighted-average dumping margins exist for the period May 1, 2020, through April 30, 2021:

Exporter/producer | Weighted-average dumping margin (percent)
Borusan Mannesmann Boru Sanayi ve Ticaret A.S./Borusan Istikbal Ticaret T.A.S | 13.79
Borusan Holding | 13.79
Borusan Mannesmann Yatirim Holding | 13.79
Kale Baglanti Teknolojileri San. ve Tic. A.S | 13.79
Kale Baglann Teknolojileri San. Ve Tic. A.S | 13.79
Noksel Celik Boru Sanayi A.S | 13.79

Assessment Rates

Upon issuance of the final results, Commerce will determine, and CBP shall assess, Ads on all appropriate entries covered by this review.¹⁴ The final results of this review shall be the basis for the assessment of ADs on entries of merchandise covered by this review and for future deposits of estimated duties, where applicable.¹⁵

¹⁴ 19 CFR 351.212(b)(1).

¹⁵ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), where an examined respondent's weighted-average dumping margin is not zero or de minimis (i.e., less than 0.5 percent) in the final results of this review, we will calculate an importer-specific ad valorem duty assessment rate based on the ratio of the total amount of dumping calculated for the U.S. sales for a given importer to the total entered value of those sales. Where a mandatory respondent did not report entered value, we calculate the entered value in order to calculate the assessment rate. Where either the respondent's weighted-average dumping margin is zero or de minimis within the meaning of 19 CFR 351.106(c)(1), or an importer-specific assessment rate is zero or de minimis, we will instruct CBP to liquidate the appropriate entries without regard to ADs.

For the companies that were not selected for individual examination, we will instruct CBP to assess antidumping duties at an ad valorem rate equal to each company's weighted-average dumping margin determined in the final results of this review.

For entries of subject merchandise during the POR produced by Borusan for which it did not know that its merchandise was destined for the United States and for all entries attributed to companies that we find had no shipments during the POR, we will instruct CBP to liquidate such unreviewed entries pursuant to the reseller policy,¹⁶ i.e., the assessment rate for such entries will be equal to the all-others rate established in the investigation (i.e., 14.74 percent ad valorem),¹⁷ if there is no rate for the intermediate company(ies) involved in the transaction.

¹⁶ See Antidumping and Countervailing Duty Proceedings: Assessment of Antidumping Duties, 68 FR23954 (May 6, 2003).

¹⁷ See Order, 51 FR 17784.

Cash Deposit Requirements

The following deposit requirements will be effective for all shipments of the subject merchandise entered, or withdrawn from warehouse, for consumption on or after the publication date of the final results of this administrative review, as provided by section 751(a)(2)(C) of the Act: (1) the cash deposit rate for each specific company listed above will be equal to each company's weighted-average dumping margin established in the final results of this review, (except if the ad valorem rate is de minimis within the meaning of 19 CFR 351.106(C)(1), in which case the cash deposit rate will be zero); (2) for previously investigated companies not participating in this review, the cash deposit will continue to be the company-specific rate published for the most recently completed segment of this proceeding in which the company participated; (3) if the exporter is not a firm covered in this review, or the underlying investigation, but the producer is, then the cash deposit rate will be the rate established for the most recently completed segment for the producer of the merchandise; and (4) the cash deposit rate for all other producers or exporters will continue to be 14.74 percent, the all-others rate established in the underlying investigation.¹⁸

¹⁸ Id.

These cash deposit requirements, when imposed, shall remain in effect until further notice.

Disclosure and Public Comment

Commerce intends to disclose the calculations performed in connection with these preliminary results to interested parties within five days after the date of publication of this notice in accordance with 19 CFR 351.224(b).

Interested parties may submit case briefs no later than 30 days after the date of publication of this notice.¹⁹ Rebuttal briefs, limited to issues raised in the case briefs, may be filed not later than seven days after the time limit for filing case briefs.²⁰ Parties who submit case briefs or rebuttal briefs in this proceeding are encouraged to submit with each argument: (1) a statement of the issue; (2) a brief summary of the argument; and (3) a table of authorities.²¹ Executive summaries should be limited to five pages total, including footnotes.²² Case and rebuttal briefs should be filed using ACCESS and must be served on interested parties.²³ Note that Commerce has temporarily modified certain of its requirements for serving documents containing business proprietary information, until further notice.²⁴

¹⁹ See 19 CFR 351.309(c)(1)(ii); see also 19 CFR 351.303 (for general filing requirements).

²⁰ See 19 CFR 351.309(d)(1).

²¹ See 19 CFR 351.309(c)(2) and (d)(2).

²² Id.

²³ See 19 CFR 351.303.

²⁴ See Temporary Rule Modifying AD/CVD Service Requirements Due to COVID-19; Extension of Effective Period, 85 FR 41363 (July 10, 2020).

Pursuant to 19 CFR 351.310(c), any interested party who wishes to request a hearing must submit a written request to the Assistant Secretary for Enforcement and Compliance within 30 days of publication of this notice. Hearing requests should contain: (1) the party's name, address, and telephone number; (2) the number of participants; and (3) a list of the issues to be discussed. Issues raised in the hearing will be limited to issues raised in the case and rebuttal briefs. If a request for a hearing is made, Commerce intends to hold the hearing at a time and date to be determined.²⁵ Parties should confirm by telephone the date, time, and location of the hearing two days before the scheduled date.

²⁵ See 19 CFR 351.310(c).

All submissions to Commerce must be filed electronically using ACCESS ²⁶ and must also be served on interested parties.²⁷ An electronically filed document must be received successfully in its entirety by ACCESS, by 5 p.m. Eastern Time (ET) on the date that the document is due.

²⁶ See 19 CFR 351.303.

²⁷ See 19 CFR 351.303(f).

Unless otherwise extended, Commerce intends to issue the final results of this administrative review, which will include the results of its analysis of issues raised in any briefs, within 120 days of publication of these preliminary results, pursuant to section 751(a)(3)(A) of the Act.

Notification to Importers

This notice also serves as a preliminary reminder to importers of their responsibility under 19 CFR 351.402(f) to file a certificate regarding the reimbursement of ADs prior to liquidation of the relevant entries during this review period. Failure to comply with this requirement could result in Commerce's presumption that reimbursement of ADs occurred and the subsequent assessment of double ADs.

Notification to Interested Parties

We are issuing and publishing these results in accordance with sections 751(a)(1) and 777(i)(1) of the Act, and 19 CFR 351.221(b)(4).

Dated: May 27, 2022.
Lisa W. Wang,
Assistant Secretary for Enforcement and Compliance.

Appendix I

List of Topics Discussed in the Preliminary Decision Memorandum

I. Summary

II. Background

III. Scope of the Order

IV. Preliminary Determination of No Shipments

V. Companies Not Selected For Individual Examination

VI. Discussion Of The Methodology

VII. Currency Conversion

VIII. Recommendation

Appendix II

List of Companies With No Shipments During the Period of Review

1. Toscelik Profil ve Sac Endustrisi A.S.;

2. Tosyali Dis Ticaret A.S.;

3. Toscelik Metal Ticaret A.S.;

4. Cayirova Boru Sanayi ve Ticaret A.S.;

5. Yucel Boru ve Profil Endustrisi A.S.;

6. Yucelboru Ihracat ve Pazarlama A.S.; ²⁸

²⁸ We note that Nucor, a petitioner in this proceeding, requested an administrative review for “Yucelboru Ihracat Ithalat ve Pazarlama A.S.,” whereas, the second petitioner, Wheatland, requested an administrative review for “Yucelboru Ihracat ve Pazarlama A.S.” (Yucelboru). Additionally, the Initiation Notice listed Yucelboru's name as listed in Wheatland's Request for an administrative review (i.e., “Yucelboru Ihracat vs Pazarlama A.S.”). Accordingly, we reference Yucelboru's name as listed in the Initiation Notice for purposes of these preliminary results.

7. Cinar Boru Profil San. Ve Tic. AS;

8. Erbosan Erciyas Boru Sanayi ve Ticaret A.S.;

9. Borusan Birlesik Boru Fabrikalari San ve Tic;

10. Borusan Gemlik Boru Tesisleri A.S.;

11. Borusan Ihracat Ithalat ve Dagitim A.S.;

12. Tubeco Pipe and Steel Corporation; and

13. Borusan Ithicat ve Dagitim A.S.

[FR Doc. 2022-12087 Filed 6-3-22; 8:45 am]

BILLING CODE 3510-DS-P